DEPARTMENT OF THE INTERIOR

Bureau of Reclamation

Regional Water Management Plan for the Sacramento River Contractors

AGENCY: Bureau of Reclamation, Interior.

ACTION: Notice of availability.

SUMMARY: The Regional Water Management Plan for the Sacramento River Contractors (Regional Plan) is available for review. Participating Contractors include:

• Anderson-Cottonwood Irrigation District

• Meridian Farms Water Company

• Glenn-Colusa Irrigation District

• Sutter Mutual Water Company

• Provident Irrigation District

• Pelger Mutual Water Company

• Princeton-Codora-Glenn Irrigation District

• Natomas Central Mutual Water Company

• Reclamation District No. 108

• Reclamation District No. 1004

Under the authority of the Central Valley Project Improvement Act of 1992 (CVPIA) and the Reclamation Reform Act of 1982, the Bureau of Reclamation (Reclamation) developed and published the Regional Criteria for Evaluating Water Management Plans for the Sacramento River Contractors (Regional Criteria) in 2004. The development and implementation of the Regional Criteria for the Sacramento Valley was an alternative pilot program to the current Standard Criteria for Evaluating Water Management Plans (Standard Criteria), as stated in the Water Conservation Administrative Proposal dated March 20, 1997. If the Contracting Officer deems this pilot program to be unsuccessful, the Regional Criteria will be discontinued. All subsequent Plans would then be evaluated under the current Standard Criteria. The above entities have developed the Regional Plan, which Reclamation has evaluated and preliminarily determined to meet the requirements of the Regional Criteria.

DATES: All public comments must be received by August 2, 2007.

ADDRESSES: Please mail comments to Ms. Laurie Sharp, Bureau of Reclamation, 2800 Cottage Way, Sacramento, California, 95825, or contact Ms. Sharp at 916-978-5232 (TDD 978-5608), or e-mail at lsharp@mp.usbr.gov.

FOR FURTHER INFORMATION CONTACT: To be placed on a mailing list for any subsequent information, please contact Ms. Laurie Sharp at the telephone number or e-mail address above.

SUPPLEMENTARY INFORMATION: We are inviting the public to comment on the preliminary (i.e., draft) determination of Regional Plan adequacy. In September 1995, the Department of the Interior (Interior) invited the public to identify any concerns they had regarding implementation of the CVPIA (Title XXXIV of Public Law 102-575). To that end, Interior circulated a draft Administrative Proposal on Water Conservation Criteria on May 13, 1996. One concern that came to light was the applicability of Best Management Practices (BMPs) in different regions. Some water users had argued that it is inappropriate to establish a single set of criteria for water conservation plans in the CVP service area due to regional variations. In response to this comment, Interior developed Regional Criteria. The Regional Criteria state that the following are excepted from the requirement to prepare a Plan using these Regional Criteria:

• All contractors that receive only irrigation water from any Federal Reclamation project and deliver said water to less than 2,000 acres of land.

• All contractors that receive less than an annual average of 2,000 acre-feet from any Federal Reclamation project.

The Regional Plan contains the following information:

1. Description of the Region Covered by the Plan

2. Inventory of Water Resources

3. Identify Regional Water Measurement Program

4. Analyze Water Management Quantifiable Objectives (QOs)

5. Identify Actions to Implement and Achieve Proposed QOs

6. Establish Monitoring Program

7. Budget and Allocation of Regional Cost

8. Regional Plan Coordination

9. Five-Year Plan Revision Procedure

Reclamation evaluated the Regional Plan based on the Regional Criteria. A copy of the Regional Plan will be available for review at Reclamation's Mid-Pacific Regional Office located in Sacramento, California, and the Northern California Area Office located in Willows, California. Comments received in response to this notice will become part of the administrative record and are subject to public inspection. Our practice is to make comments, including names, home addresses, home phone numbers, and email addresses of respondents, available for public review. Individual respondents may request that we withhold their names and/or home addresses, etc., but if you would like us to consider withholding this information, you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, or from individuals identifying themselves as representatives or officials of organizations or businesses, available for public inspection in their entirety. If you wish to review a copy of the Regional Plans, please contact Ms. Laurie Sharp to find the office nearest you.

Dated: May 9, 2007.
Richard J. Woodley,
Regional Resources Manager, Mid-Pacific Region, Bureau of Reclamation.

[FR Doc. E7-11689 Filed 6-15-07; 8:45 am]

BILLING CODE 4310-MN-P